DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been removed from the SDN List. Their property and interests in property are no longer blocked, and U.S. persons are no longer generally prohibited from engaging in transactions with them. OFAC is also publishing an update to the identifying information of persons currently included in the SDN List.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website. (https://www.treasury.gov/ofac).

Notice of OFAC Actions

On August 2, 1990, the President issued Executive Order 12722, “Blocking Iraqi Government Property and Prohibiting Transactions with Iraq.” On August 9, 1990, the President issued Executive Order 12724, “Blocking Iraqi Government Property and Prohibiting Transactions with Iraq.” On July 29, 2004, the President issued E.O. 13350, “Termination of Emergency Declared in Executive Order 12722 With Respect to Iraq and Modification of Executive Order 13290, Executive Order 13303, and Executive Order 13315,” which included an annex listing, in part, persons previously designated pursuant to E.O. 12722 or E.O. 12724, or the Iraqi Sanctions Regulations, Title 31, Code of Federal Regulations, who were also determined to be subject to Executive Order 13315 (“E.O. 13315”) and E.O. 13350. Through the cancellation of E.O.s 12722 and 12724 in E.O. 13350 persons were effectually delisted from the SDN List pursuant to E.O.s 12722 and 12724 and simultaneously re-listed on the SDN List pursuant to E.O. 13350. On December 23, 2020, OFAC determined that circumstances no longer warrant the inclusion of the following persons on the SDN List under this authority. These persons are no longer subject to the blocking provisions of E.O. 13350.

Individual

1. AL-KHAFAJI, Sabah, 254 Rue Adolphe Pajeaud, Antony 92160, France (individual) [IRAQ2]

Entity

2. BABIL INTERNATIONAL, Aeroport D'Orly, Orly Aerogare 94390, France [IRAQ2]

Dated: December 23, 2020.
Bradley T. Smith,
Deputy Director, Office of Foreign Assets Control.

[FR Doc. 2020-28856 Filed 12-29-20; 8:45 am]

BILLING CODE 4810-AL-P